DEPARTMENT OF ENERGY

Federal Energy Regulatory Commission

[Project No. 2232-522]

Duke Power Company LLC; Notice of Application and Settlement Agreement Tendered for Filing With the Commission, Soliciting Comments on the Settlement, Additional Study Requests, Establishing Procedural Schedule for Relicensing and a Deadline for Submission of Final Amendments

September 13, 2006.

Take notice that the following hydroelectric application has been filed with the Commission and is available for public inspection.

a. Type of Application: New Major License.

b. Project No.: 2232-522.

c. Date filed: August 29, 2006.

d. Applicant: Duke Power Company LLC—current licensee.

e. Name of Project: Catawba-Wateree Hydroelectric Project.

f. Location: On the Catawba River, in Alexander, Burke, Caldwell, Catawba, Gaston, Iredell, Lincoln, McDowell, and Mecklenburg Counties, North Carolina, and on the Catawba and Wateree Rivers in the counties of Chester, Fairfield, Kershaw, Lancaster, and York, South Carolina.

g. Filed Pursuant to: Federal Power Act 16 U.S.C. 791 (a)—825(r).

h. Applicant Contact: Jeffrey G. Lineberger, Catawba-Wateree Hydro Relicensing Manager; and E. Mark Oakley, Catawba-Wateree Relicensing Project Manager, Duke Energy, Mail Code EC12Y, P.O. Box 1006, Charlotte, NC 28201-1006.

i. FERC Contact: Sean Murphy at 202-502-6145; Sean.Murphy@ferc.gov.

j. Cooperating Agencies: We are asking Federal, State, and local and tribal agencies with jurisdiction and/or special expertise with respect to environmental issues to cooperate with us in the preparation of the environmental document. Agencies who would like to request cooperating status should follow the instructions for filing comments described in item k below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing comments on the settlement, additional study requests, and requests for cooperating agency status: 60 days from the date of filing of the application. Reply comments on the settlement are due: 75 days from the date of filing of the application.

All documents (original and eight copies) should be filed with: Magalie R. Salas, Secretary, Federal Energy Regulatory Commission, 888 First Street, NE., Washington, DC 20426.

Comments on the settlement, additional study requests, and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The existing Catawba-Wateree Project comprises eleven developments:

(I) The Bridgewater development consists of the following existing facilities: (1) The Catawba dam consisting of: (a) a 1,650-foot-long, 125-foot-high earth embankment; (b) a 305-foot-long, 120-foot-high concrete gravity ogee spillway; and (c) a 850-foot-long, 125-foot-high earth embankment; (2) the Paddy Creek dam consisting of: a 1,610-foot-long, 165-foot-high earth embankment; (3) the Linville dam consisting of: A 1,325-foot-long, 160-foot-high earth embankment; (4) a 430-foot-long uncontrolled low overflow weir spillway situated between Paddy Creek Dam and Linville Dam; (5) a 6,754 acre reservoir formed by Catawba, Paddy Creek, and Linville with a normal water surface elevation of 1,200 feet above msl; (6) a 900-foot-long concrete-lined intake tunnel; (7) a powerhouse containing two vertical Francis-type turbines directly connected to two generators, each rated at 10,000 kW, for a total installed capacity of 20.0 MW; and (8) other appurtenances.

(II) The Rhodhiss development consists of the following existing facilities: (1) The Rhodhiss dam consisting of: (a) A 119.58-foot-long concrete gravity bulkhead; (b) a 800-foot-long, 72-foot-high concrete gravity ogee spillway; (c) a 122.08-foot-long concrete gravity bulkhead with an additional 8-foot-high floodwall; and (d) a 283.92-foot-long rolled fill earth embankment; (2) a 2,724 acre reservoir with a normal water surface elevation of 995.1 feet above msl; (4) a powerhouse integral to the dam, situated between the bulkhead on the left bank and the ogee spillway section, containing three vertical Francis-type turbines directly connected to three generators, two rated at 12,350 kW, one rated at 8,500 kW for a total installed capacity of 28.4 MW; and (5) other appurtenances.

(III) The Oxford development consists of the following existing facilities: (1) The Oxford dam consisting of: (a) A 74.75-foot-long soil nail wall; (b) a 193-foot-long emergency spillway; (c) a 550-foot-long gated concrete gravity spillway; (d) a 112-foot-long embankment wall situated above the powerhouse; and (e) a 429.25-foot-long earth embankment; (2) a 4,072 acre reservoir with a normal water surface elevation of 935 feet above msl; (4) a powerhouse integral to the dam, situated between the gated spillway and the earth embankment, containing two vertical Francis-type turbines directly connected to two generators, each rated at 18,000 kW for a total installed capacity of 35.7 MW; and (5) other appurtenances.

(IV) The Lookout Shoals development consists of the following existing facilities: (1) The Lookout Shoals dam consisting of: (a) A 282.08-foot-long concrete gravity bulkhead section; (b) a 933-foot-long uncontrolled concrete gravity ogee spillway; (c) a 65-foot-long gravity bulkhead section; and (d) a 1,287-foot-long, 88-foot-high earth embankment; (2) a 1,155 acre reservoir with a normal water surface elevation of 838.1 feet above msl; (3) a powerhouse integral to the dam, situated between the bulkhead on the left bank and the ogee spillway, containing three main vertical Francis-type turbines and two smaller vertical Francis-type turbines directly connected to five generators, the three main generators rated at 8,970 kW, and the two smaller rated at 450 kW for a total installed capacity of 25.7 MW; and (4) other appurtenances.

(V) The Cowans Ford development consists of the following existing facilities: (1) The Cowans Ford dam consisting of: (a) A 3,535-foot-long embankment; (b) a 209.5-foot-long gravity bulkhead; (c) a 465-foot-long concrete ogee spillway with eleven Taintor gates, each 35-feet-wide by 25-feet-high; (d) a 276-foot-long bulkhead; and (e) a 3,924-foot-long earth embankment; (2) a 3,134-foot-long saddle dam (Hicks Crossroads); (3) a 32,339 acre reservoir with a normal water surface elevation of 760 feet above msl; (4) a powerhouse integral to the dam, situated between the spillway and the bulkhead near the right embankment, containing four vertical Kaplan-type turbines directly connected to four generators rated at 83,125 kW for a total installed capacity of 332.5 MW; and (5) other appurtenances.

(VI) The Mountain Island development consists of the following existing facilities: (1) The Mountain Island dam consisting of: (a) A 997-foot-long, 97-foot-high uncontrolled concrete gravity ogee spillway; (b) a 259-foot-long bulkhead on the left side of the powerhouse; (c) a 200-foot-long bulkhead on the right side of the powerhouse; (d) a 75-foot-long concrete core wall; and (e) a 670-foot-long, 140-foot-high earth embankment; (2) a 3,117 acre reservoir with a normal water surface elevation of 647.5 feet above msl; (3) a powerhouse integral to the dam, situated between the two bulkheads, containing four vertical Francis-type turbines directly connected to four generators rated at 15,000 kW for a total installed capacity of 55.1 MW; and (4) other appurtenances.

(VII) The Wylie development consists of the following existing facilities: (1) The Wylie dam consisting of: (a) A 234-foot-long bulkhead; (b) a 790.92-foot-long ogee spillway section that contains 2 controlled sections with a total of eleven Stoney gates, each 45-feet-wide by 30-feet-high, separated by an uncontrolled section with no gates; (c) a 400.92-foot-long bulkhead; and (d) a 1,595-foot-long earth embankment; (2) a 12,177 acre reservoir with a normal water surface elevation of 569.4 feet above msl; (3) a powerhouse integral to the dam, situated between the bulkhead and the spillway near the left bank, containing four vertical Francis-type turbines directly connected to four generators rated at 18,000 kW for a total installed capacity of 69 MW; and (4) other appurtenances.

(VIII) The Fishing Creek development consists of the following existing facilities: (1) The Fishing Creek dam consisting of: (a) A 114-foot-long, 97-foot-high uncontrolled concrete ogee spillway; (b) a 1,210-foot-long concrete gravity, ogee spillway with twenty-two Stoney gates, each 45-feet-wide by 25-feet-high; and (c) a 214-foot-long concrete gravity bulkhead structure; (2) a 3,431 acre reservoir with a normal water surface elevation of 417.2 feet above msl; (3) a powerhouse integral to the dam, situated between the gated spillway and the bulkhead structure near the right bank, containing five vertical Francis-type turbines directly connected to five generators two rated at 10,530 kW and three rated at 9,450 kW for a total installed capacity of 48.1 MW; and (4) other appurtenances.

(IX) The Great Falls-Dearborn development consists of the following existing facilities: (1) The Great Falls diversion dam consisting of a 1,559-foot-long concrete section; (2) the Dearborn dam consisting of: (a) A 160-foot-long, 103-foot-high, concrete embankment; (b) a 150-foot-long, 103-foot-high intake and bulkhead section; and (c) a 75-foot-long, 103-foot-high bulkhead section; (3) the Great Falls dam consisting of: (a) A 675-foot-long, 103-foot-high concrete embankment situated in front of the Great Falls Powerhouse (and joined to the Dearborn dam embankment); and (b) a 250-foot-long intake section (within the embankment); (4) the Great Falls bypassed spillway and headworks section consisting of: (a) A 446.7-foot-long short concrete bypassed reach uncontrolled spillway with a gated trashway (main spillway); (b) a 583.5-foot-long concrete headworks uncontrolled spillway with 4-foot-high flashboards (canal spillway); and (c) a 262-foot-long concrete headworks section situated perpendicular to the main spillway and the canal spillway, containing ten opening, each 16-feet-wide; (5) a 353 acre reservoir with a normal water surface elevation of 355.8 feet above msl; (6) two powerhouses separated by a retaining wall, consisting of: (a) Great Falls powerhouse: Containing eight horizontal Francis-type turbines directly connected to eight generators rated at 3,000 kW for an installed capacity of 24.0 MW, and (b) Dearborn powerhouse: containing three vertical Francis-type turbines directly connected to three generators rated at 15,000 kW for an installed capacity of 42.0 MW, for a total installed capacity of 66.0 MW; and (7) other appurtenances.

(X) The Rocky Creek-Cedar Creek development consists of the following existing facilities: (1) A U-shaped concrete gravity overflow spillway with (a) A 130-foot-long section (on the east side) that forms a forebay canal to the Cedar Creek powerhouse and contains two Stoney gate, each 45-feet-wide by 25-feet-high; (b) a 1,025-foot-long, 69-foot-high concrete gravity overflow spillway; and (c) a 213-foot-long section (on the west side) that forms the upper end of the forebay canal for the Rocky Creek powerhouse; (2) a 450-foot-long concrete gravity bulkhead section that completes the lower end of the Rocky Creek forebay canal; (3) a 748 acre reservoir with a normal water surface elevation of 284.4 feet above msl; (4) two powerhouses consisting of: (a) Cedar Creek powerhouse (on the east): containing three vertical Francis-type turbines directly connected to three generators, one rated at 15,000 kW, and two rated at 18,000 kW for an installed capacity of 43.0 MW; and (b) Rocky Creek powerhouse (on the west): Containing eight horizontal twin-runner Francis-type turbines directly connected to eight generators, six rated at 3,000 kW and two rated at 4,500 kW for an installed capacity of 25.8 MW, for a total installed capacity of 68.8 MW; and (5) other appurtenances.

(XI) The Wateree development consists of the following existing facilities: (1) The Wateree dam consisting of: (a) A 1,450 foot-long uncontrolled concrete gravity ogee spillway; and (b) a 1,370-foot-long earth embankment; (2) a 13,025 acre reservoir with a normal water surface elevation of 225.5 feet above msl; (3) a powerhouse integral to the dam, situated between the spillway and the earth embankment, containing five vertical Francis-type turbines directly connected to five generators, two rated at 17,100 kW and three rated at 18,050 kW for a total installed capacity of 82.0 MW; and (4) other appurtenances.

o. A copy of the application and settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the North Carolina State Historic Preservation Officer (SHPO) and the South Carolina SHPO, as required by 106, National Historic Preservation Act, and the regulations of the Advisory Council on Historic Preservation, 36, CFR, at 800.4.

q. Procedural schedule and final amendments: The application will be processed according to the following Hydro Licensing Schedule. Revisions to the schedule will be made as appropriate.

Issue Acceptance or Deficiency Letter: October 2006.

Issue Scoping Document for comments: January 2007.

Notice of application is ready for environmental analysis: April 2007.

Notice of the availability of the draft EIS: October 2007.

Notice of the availability of the final EIS: March 2008.

Ready for Commission's decision on the application: June 2008.

Final amendments to the application must be filed with the Commission no later than 30 days from the issuance date of the notice of ready for environmental analysis.

Magalie R. Salas,
Secretary.

[FR Doc. E6-15524 Filed 9-18-06; 8:45 am]

BILLING CODE 6717-01-P